DEPARTMENT OF STATE

[Public Notice: 10935]

Notice of a Public Meeting, in Preparation for an International Maritime Organization Meeting

The Department of State will conduct an open meeting at 1:00 p.m. on Tuesday, November 12, 2019 in Room 5L18-01 of the Douglas A. Munro Coast Guard Headquarters Building at St. Elizabeth's, 2703 Martin Luther King Jr. Ave. SE, Washington, DC 20593. The primary purpose of the meeting is to prepare for the 30th Extraordinary Council Session (CES30), the 31st Assembly (A31), and the 123rd Council Session (C123) of the International Maritime Organization (IMO), to be held at the IMO Headquarters, United Kingdom, November 21-22; November 25-December 5; and, December 6, respectively. The agenda items for CES30, to be considered include:

—Adoption of the agenda

—Report of the Secretary-General on credentials

—Strategy, planning and reform

—Resource management

—Report on the forty-first Consultative Meeting of Contracting Parties to the London Convention 1972 and the fourteenth Meeting of Contracting Parties to the 1996 Protocol to the London Convention

—Report of the Council to the Assembly on the work of the Organization since the thirtieth regular session of the Assembly

—IMO International Maritime Law Institute

—External relations

—Report on the status of the Convention and membership of the Organization

—Report on the status of conventions and other multilateral instruments in respect of which the Organization performs functions

—Items for inclusion in the provisional agendas for the next session of the Council (C123)

—Supplementary agenda items, if any

The agenda items for A31, to be considered include:

—Adoption of the agenda

—Election of the President and the Vice-Presidents of the Assembly

—Consideration of proposed amendments to the Rules of Procedure of the Assembly

—Application of Article 61 of the IMO Convention—Report of the Council to the Assembly on any requests by Members for waiver

—Establishment of committees of the Assembly

—Consideration of the reports of the committees of the Assembly

—Report of the Council to the Assembly on the work of the Organization since the thirtieth regular session of the Assembly

—Strategy, planning and reform

— IMO Member State Audit Scheme

—Consideration of the reports and recommendations of the Maritime Safety Committee

—Consideration of the reports and recommendations of the Legal Committee

—Consideration of the reports and recommendations of the Marine Environment Protection Committee

—Consideration of the reports and recommendations of the Technical Cooperation Committee

—Consideration of the reports and recommendations of the Facilitation Committee

—Convention on the Prevention of Marine Pollution by Dumping of Wastes and Other Matter, 1972 and the 1996 Protocol thereto: Report on the performance of Secretariat functions and other duties

—Report to the Assembly on Periodic review of administrative requirements in mandatory IMO instruments

—Resource management

—Global maritime training institutions

—External relations

—Report on the status of the Convention and membership of the Organization

—Report on the status of conventions and other multilateral instruments in respect of which the Organization performs functions

—Election of Members of the Council, as provided for in Articles 16 and 17 of the IMO Convention

—Election of Members of the IMO Staff Pension Committee

—Appointment of the External Auditor

—Approval of the appointment of the Secretary-General

—Date and place of the thirty-second regular session of the Assembly

—Supplementary agenda items, if any

The agenda for C123 has not yet been published but traditionally includes:

—Election of the Chairman and Vice-Chairman

—Adoption of the agenda

—Date, place and duration of the next session of Council

—Supplementary agenda items, if any

Members of the public may attend this meeting up to the seating capacity of the room. To facilitate the building security process, and to request reasonable accommodation, those who plan to attend must contact the meeting coordinator, LCDR Staci Weist, by email at eustacia.y.weist@uscg.mil, or by phone at (202) 372-1376, not later than November 7th, 7 days prior to the meeting. Requests made after November 7, 2019 might not be able to be accommodated. Please note that due to security considerations, two valid, government issued photo identifications must be presented to gain entrance to the Headquarters building. The Headquarters building is accessible by public transportation, taxi and privately owned conveyance.

Jeremy M. Greenwood,
Coast Guard Liaison Officer, Office of Ocean and Polar Affairs, Department of State.

[FR Doc. 2019-23787 Filed 10-30-19; 8:45 am]

BILLING CODE 4710-09-P